DEPARTMENT OF THE INTERIOR

Fish and Wildlife Service

Notice of Availability of the Draft Sentry Milk-vetch Recovery Plan for Review and Comment

AGENCY: Fish and Wildlife Service, Interior.

ACTION: Notice of document availability.

SUMMARY: We, the U.S. Fish and Wildlife Service (Service), announce the availability for public review of a draft recovery plan for the sentry milk-vetch (Astragalus cremnophylax var. cremnophylax). All known populations of the species occur on land managed by the National Park Service, Grand Canyon National Park (Park) in Coconino County, Arizona. We solicit review and comment from the public on this Draft Sentry Milk-vetch Recovery Plan (Draft Plan).

DATES: Comments on the Draft Plan must be received on or before October 14, 2004, to receive consideration by the Service.

ADDRESSES: Persons wishing to review the Draft Plan may obtain a copy by accessing the Service's Arizona Ecological Services Field Office Internet Web page at http://arizonaes.fws.gov or by contacting the Field Supervisor, Arizona Ecological Services Field Office, U.S. Fish and Wildlife Service, 2321 West Royal Palm Road, Suite 103, Phoenix, Arizona, 85021-4951 (602/242-0210) to obtain a copy via the mail or in person at the addresses above. Written comments and materials regarding the plan should be addressed to the Field Supervisor at the address provided above. Comments and materials received are available on request for public inspection, by appointment, during normal business hours at the above address.

FOR FURTHER INFORMATION CONTACT: Mima Falk, Arizona Ecological Services Tucson Suboffice, 201 N Bonita Ave., Tucson, Arizona 85745 (520/670-6150 ext. 225).

SUPPLEMENTARY INFORMATION:

Background

Restoring an endangered or threatened animal or plant species to the point where it is again a secure, self-sustaining member of its ecosystem is a primary goal of the Service's endangered species program. To help guide the recovery effort, the Service is working to prepare recovery plans for most of the listed species native to the United States. Recovery plans describe actions considered necessary for conservation of species, establish criteria for the recovery levels for downlisting or delisting them, and estimate time and cost for implementing the recovery measures needed.

The Endangered Species Act of 1973 (Act), as amended (16 U.S.C. 1531 et seq.), requires the development of recovery plans for listed species unless such a plan would not promote the conservation of a particular species. Section 4(f) of the Act, as amended in 1988, requires that public notice and an opportunity for public review and comment be provided during recovery plan development. We will consider all information presented during the public comment period prior to approval of each new or revised recovery plan. We, along with other Federal agencies, will also take these comments into account in the course of implementing approved recovery plans.

The Draft Plan describes the status, current management, recovery objectives and criteria, and specific actions needed to reclassify the sentry milk-vetch from endangered to threatened and for eventual consideration for delisting. An original draft of the recovery plan was developed by Dr. Joyce Maschinski, a botanist and species specialist from The Arboretum at Flagstaff. The document was reviewed and updated by a team of botanists, soil scientists, naturalists and National Park Service land managers that have a history of researching or managing the plant and its environs. In 1993, a draft recovery plan for the sentry milk-vetch underwent technical and public review. The draft was not finalized at that time due to other high priority work. The reviews received on the 1993 draft are maintained in the Service's administrative record. Peer review of this Draft Plan is being conducted concurrent with public review.

Sentry milk-vetch is known from two, and up to three, locations on the South Rim and one location on the North Rim of the Park, where Kaibab limestone forms large flat platforms with shallow soils near pinyon-juniper woodlands. The primary cause of population decline prior to protection was trampling by Park visitors, although drought conditions may have worsened the situation. We carefully assessed the best scientific and commercial information available regarding the past, present, and future threats faced by sentry milk-vetch as part of our 1990 final determination to list this species as endangered (55 FR 50184). The four major threats identified in the rule listing the species were: (1) Destruction of habitat and damage to individuals through human disturbance (trampling); (2) overutilization due to collection; (3) inadequacy of existing regulatory mechanisms to provide protection of habitat; and (4) naturally low reproduction of the species. The Draft Plan contains action items to alleviate these factors.

Public Comments Solicited

We solicit written comments on the Draft Plan. All comments received by the date specified above will be considered prior to approval of the plan.

Authority

The authority for this action is section 4(f) of the Endangered Species Act, 16 U.S.C. 1533(f).

Dated: August 16, 2004.
Bryan Arroyo,
Acting Regional Director, Region 2, Fish and Wildlife Service.

[FR Doc. 04-20685 Filed 9-13-04; 8:45 am]

BILLING CODE 4310-55-P